FEDERAL ACCOUNTING STANDARDS ADVISORY BOARD

Notice of Request for Comment on the Annual Report for Fiscal Year 2024 and Three-Year Plan

AGENCY: Federal Accounting Standards Advisory Board.

ACTION: Notice.

SUMMARY: Notice is hereby given that the Federal Accounting Standards Advisory Board (FASAB) has issued its “Annual Report for Fiscal Year 2024 and Three-Year Plan”. Respondents are encouraged to comment on the content of the annual report and FASAB's project priorities for the next three years.

DATES: Written comments are requested by January 17, 2025.

ADDRESSES: The “Annual Report for Fiscal Year 2024 and Three-Year Plan” is available on the FASAB website at https://www.fasab.gov/documents-for-comment/. Copies can be obtained by contacting FASAB at (202) 512-7350. Comments should be sent to fasab@fasab.gov.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: November 15, 2024.
Monica R. Valentine,
Executive Director.

[FR Doc. 2024-27081 Filed 11-19-24; 8:45 am]

BILLING CODE 1610-02-P